GENERAL SERVICES ADMINISTRATION

[Notice-MV-2012-02; Docket No. 2012-0002; Sequence 14]

Public Availability of General Services Administration FY 2012 Federal Activities Inventory Reform (FAIR) Act Inventory

AGENCY: General Services Administration (GSA).

ACTION: Notice of Public Availability of Fiscal Year (FY) 2012 Federal Activities Inventory Reform (FAIR) Act Inventory.

SUMMARY: In accordance with the FAIR Act of 1998, Public Law 105-270, and Office of Management and Budget (OMB) Circular A-76, GSA is publishing this notice to advise the public of the availability of the FY 2012 FAIR Act Inventory. This inventory provides information on commercial and inherently governmental activities performed by GSA employees. The inventory has been developed in accordance with guidance issued on March 26, 2012 by the OMB's Office of Federal Procurement Policy (OFPP). OFPP's guidance is available at: http://www.whitehouse.gov/sites/default/files/omb/memoranda/2012/m-12-09_0.pdf. The GSA has posted its inventory on the GSA.Gov homepage at the following link: http://www.gsa.gov/fairact.

FOR FURTHER INFORMATION CONTACT: Questions regarding the FAIR Act Inventory should be directed to Paul F. Boyle in the Office of Acquisition Policy at (202) 501-0324 or paul.boyle@gsa.gov.

Dated: August 30, 2012.
Joseph A. Neurauter,
Deputy Chief Acquisition Officer/Senior Procurement Executive, Office of Acquisition Policy, U.S. General Services Administration.

[FR Doc. 2012-21863 Filed 9-5-12; 8:45 am]

BILLING CODE 6820-61-P